DEPARTMENT OF TRANSPORTATION

Federal Railroad Administration

[Docket Number FRA-2014-0066]

Petition for Waiver of Compliance

In accordance with part 211 of Title 49 Code of Federal Regulations (CFR), this document provides the public notice that by a document dated May 28, 2014, Union Pacific Railroad (UP) petitioned the Federal Railroad Administration (FRA) for a waiver of compliance from certain provisions of the Federal railroad safety regulations contained at 49 CFR part 229. FRA assigned the petition Docket Number FRA-2014-0066.

UP seeks a waiver of the requirement in 49 CFR 229.29(b) which requires that the air flow method (AFM) indicator on a locomotive be calibrated in accordance with 49 CFR 232.205(c)(1)(iii) at intervals not to exceed 92 days. UP states that calibration of the AFM indicator requires them to take locomotives out of service every 92 days and into a facility where the calibration can be performed, even though the locomotive may otherwise be eligible for 184-day periodic inspections. UP further states that the AFM indicator is used only to conduct AFM brake tests, and that the same air brake tests may be performed by the leakage test method, which does not use the AFM indicator. If the waiver is granted for locomotives with past due AFM indicator calibration, UP plans to inform the crew of the exceeded interval and require that air brake tests be done in accordance with the leakage test method of 49 CFR 232.205(c)(1)(i), with no resulting adverse impact on the safety of operations.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by September 15, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on July 28, 2014.
Ron Hynes,
Director, Office of Safety Assurance and Compliance.

[FR Doc. 2014-18216 Filed 7-31-14; 8:45 am]

BILLING CODE 4910-06-P